DEPARTMENT OF THE INTERIOR

Bureau of Land Management

[20X.LLAK930000.L13100000.DP0000.LXSSL0550000]

Notice of Availability of the National Petroleum Reserve in Alaska Integrated Activity Plan Final Environmental Impact Statement

AGENCY: Bureau of Land Management, Interior.

ACTION: Notice of availability.

SUMMARY: In accordance with the National Environmental Policy Act of 1969, as amended, and the Naval Petroleum Reserves Production Act of 1976 (NPRPA), as amended, the Bureau of Land Management (BLM), Alaska State Office, has prepared the Final Environmental Impact Statement (EIS) for the Integrated Activity Plan (IAP) for the National Petroleum Reserve in Alaska (NPR-A) and by this notice is announcing its publication.

DATES: The BLM will issue a Record of Decision for the project no earlier than 30 days from the date of the Final EIS Notice of Availability published by the Environmental Protection Agency.

ADDRESSES: To access the Final EIS or to request an electronic or paper copy, please reach out to:

• website: http://www.blm.gov/alaska.

• Email: srice@blm.gov.

• Mail: BLM Alaska State Office, 222 West 7th Avenue #13, Anchorage, Alaska 99513.

FOR FURTHER INFORMATION CONTACT: Stephanie Rice, NPR-A IAP Project Manager, 907-271-3202; address: 222 West 7th Avenue, #13, Anchorage, AK 99513. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The IAP/EIS analyzes management of all BLM managed lands in the NPR-A in a manner consistent with existing statutory direction and Secretarial Order 3352. Secretarial Order 3352 directed the development of a schedule to “effectuate the lawful review and development of an IAP for the NPR-A that strikes an appropriate balance of promoting development while protecting surface resources.” The NPRPA, as amended, and its implementing regulations require oil and gas leasing in the NPR-A and the protection of surface values consistent with exploration, development and transportation of oil and gas. The IAP/EIS will serve to inform BLM's management of the NPR-A for all permissible uses.

Specifically, the IAP/EIS considers and analyzes the environmental impact of various management alternatives, including the areas to offer for oil and gas leasing, and the impacts that could result based on consideration of a hypothetical development scenario. The alternatives analyze various terms and conditions (i.e., lease stipulations and required operating procedures) to require of permittees in the NPR-A, to properly balance oil and gas development and other activities with protection of surface resources and other uses, including subsistence use. The lands comprising the NPR-A are approximately 23 million acres.

Public comments on the draft EIS alternatives drove significant changes to required operating procedures and lease stipulations that were used to develop a new and Preferred Alternative (Alternative E). The Preferred Alternative would make the most land open to leasing (approximately 18.6 million acres, or 82 percent of NPR-A's subsurface estate).

The BLM has worked with interested parties to identify the management decisions best suited to local, regional, and national needs and concerns, as well as to develop a range of alternatives that examines how best to balance development with protecting surface resources and other uses. Future on-the-ground actions requiring BLM approval, including potential exploration and development proposals, would require further NEPA analysis based on the site-specific proposal. Potential applicants would be subject to the terms of the new IAP/EIS Record of Decision; however, the BLM Authorized Officer may require additional site-specific terms and conditions before authorizing any oil and gas activity based on the project level NEPA analysis.

(Authority: 40 CFR 1506.6(b))

Chad B. Padgett,
State Director, Alaska.

[FR Doc. 2020-13733 Filed 6-25-20; 8:45 am]

BILLING CODE 4310-JA-P